ENVIRONMENTAL PROTECTION AGENCY

[ER-FRL-6610-5]

Environmental Impact Statements; Notice of Availability

RESPONSIBLE AGENCY: Office of Federal Activities, General Information (202) 564-7167 or www.epa.gov/oeca/ofa.

Weekly receipt of Environmental Impact Statements Filed August 21, 2000 Through August 25, 2000 Pursuant to 40 CFR 1506.9.

EIS No. 000293, FINAL EIS, NPS, MT, Lake McDonald/Park Headquarters Wastewater Treatment System Rehabilitation, Implementation, COE Section 404 Permit, Glacier National Park, A Portion of Waterton-Glacier International Peace Park, Flathead and Glacier Counties, MT, Due: October 02, 2000, Contact: Mary Riddle (406) 888-7898.

EIS No. 000294, FINAL SUPPLEMENT, COE, MO, St. Johns Bayou and New Madrid Floodway Project, Channel Enlargement and Improvement, Flood Control, National Economic Development (NED) New Madrid, Mississippi and Scott Counties, MO, Due: October 02, 2000, Contact: John Rumancik (901) 544-3975.

EIS No. 000295, FINAL EIS, AFS, PA, Duck and Sheriff Project Area (DSPA), Timber Management, Road Construction and Reconstruction, Trail Maintenance, Wildlife Habitat Improvement, and Recreation Management, Allegheny National Forest, Bradford Ranger District, Cherry Grove Township of Warren County, and Howe Township of Forest County, PA, Due: October 02, 2000, Contact: John Schultz (814) 362-4613.

EIS No. 000296, REVISED DRAFT EIS, AFS, CA, Programmatic EIS-Ansel Adams, John Muir and Dinkey Lakes Wildernesses, Proposed New Management Direction, Amending the Land and Resource Management Plans for the Inyo and Sierra National Forests, Implementation, Inyo, Madera, Mono and Fresno Counties, CA, Due: December 01, 2000, Contact: Mary Beth Hennessy (760) 873-2448.

EIS No. 000297, DRAFT EIS, AFS, OR, Rimrock Ecosystem Restoration Project, To Promote Healthy and Sustainable Watershed Conditions, Implementation, Umatilla National Forest, Heppner Ranger District, Grant, Morrow and Wheeler Counties, OR, Due: October 16, 2000, Contact: Andrei Rykoff (541) 678-9187.

EIS No. 000298, FINAL EIS, FHW, OH, Lancaster Bypass (FAI-US 22/US 33-9.59/9.95) Construction, Funding, Greenfield, Hocking, Berne and Pleasant Townships, Fairfield County, OH, Due: October 02, 2000, Contact: Leonard E. Brown (614) 280-6896.

EIS No. 000299, FINAL EIS, BIA, CA, Cortina Integrated Solid Waste Management Project, Development and Operation, Approval of Land Lease Cortina Indian Rancheria of Wintin Indians, Colusa County, CA, Due: October 02, 2000, Contact: William Allan (916) 978-6043.

EIS No. 000300, DRAFT EIS, BLM, NV, Newmont Gold Mining, South Operations Area Project Amendment, Operation and Expansion, Plan of Operations, Elko and Eureka Counties, NV, Due: October 31, 2000, Contact: Roger Congdon (775) 753-0200.

Amended Notices

EIS No. 000282, DRAFT EIS, MMS, TX, MS, FL, LA, AL, Programmatic EIS—Proposed Use of Floating Production, Storage and Offloading Systems on the Gulf of Mexico, Outer Continental Shelf, Western and Central Planning Areas, TX, LA, MS, AL and FL, Due: October 10, 2000, Contact: Archie Melancon (703) 787-1547.

Revision of FR notice published on 08/18/2000: CEQ Comment Date corrected from 10/20/2000 to 10/10/2000.

EIS No. 000284, DRAFT EIS, NPS, MD, Glen Echo Park Management Plan, Implementation, Town of Glen Echo, Potomac River Valley, part of the George Washington Memorial Parkway, Montgomery County, MD, Due: October 16, 2000, Contact: Audrey Calhoun (703) 289-2500.

Revision of FR Notice Published on 08/18/2000: Correction of CEQ Comment Due Date from 10/17/2000 to 10/16/2000 and Correction of agency from GSA to NPS.

Dated: August 29, 2000.
Joseph C. Montgomery,
Director, NEPA Compliance Division, Office of Federal Activities.

[FR Doc. 00-22552 Filed 8-31-00; 8:45 am]

BILLING CODE 6560-50-U